DEPARTMENT OF TRANSPORTATION

Office of the Secretary

Port Performance Freight Statistics Working Group

AGENCY: Bureau of Transportation Statistics (BTS), Office of the Assistant Secretary for Research and Technology (OST-R), U.S. Department of Transportation (USDOT).

ACTION: Port Performance Freight Statistics Working Group: notice of public meeting and public comment period on draft work plan.

SUMMARY: This notice announces an upcoming meeting of the Port Performance Freight Statistics Working Group (hereafter, “Working Group”). The Working Group will provide advice and recommendations to the BTS Director pursuant to Section 6018 of the Fixing America's Surface Transportation (FAST) Act on matters related to port performance measures, including: (a) Specifications and data measurements to be used in the Port Performance Freight Statistics Program established under subsection 6018(a); and (b) a process for the Department to collect timely and consistent data, including identifying safeguards to protect proprietary information described in subsection 6018(b)(2). The Working Group will operate in accordance with the provisions of the Federal Advisory Committee Act (FACA) and the rules and regulations issued in implementation of that Act.

This notice also announces the opening of a 14-day public comment period for the Working Group's draft Work Plan, available at http://www.bts.gov/bts/port_performance. This draft Work Plan identifies the schedule, agenda items, and anticipated follow-up actions for each of the Working Group's four meetings.

DATES: The Working Group meeting will be held on November 18, 2016, from 9:00 a.m. to 4:30 p.m., Eastern Standard Time.

ADDRESSES: The meeting will be at the U.S. Department of Transportation; 1200 New Jersey Avenue SE., Washington, DC 20590. Any person requiring accessibility accommodations should contact Matthew Chambers at (202) 366-1270 or via email at: portstatistics@dot.gov.

FOR FURTHER INFORMATION CONTACT: U.S. Department of Transportation, Office of the Assistant Secretary for Research and Technology, Bureau of Transportation Statistics, Attn: Port Performance Freight Statistics Working Group, 1200 New Jersey Avenue SE., Room # E32-342, Washington, DC 20590.

SUPPLEMENTARY INFORMATION:

Background: The Port Performance Freight Statistics Working Group has been created in accordance with Section 6018 of the FAST Act (Pub. L. 114-94; Dec. 4, 2015; 129 Stat. 1312). The Working Group supports development of the newly-established BTS Port Performance Freight Statistics Program. The goal of the program is “to provide nationally consistent measures of performance” of the nation's largest ports, and to report annually to Congress on port capacity and throughput.

The Working Group is established in the FAST Act to provide recommendations to the BTS Director on matters related to port performance measures; to identify a standard for port data; to specify standards for consistent port performance measures; to recommend statistics for measuring port capacity and throughput; and to develop a process to collect timely and consistent data. The FAST Act also identifies the membership of the Working Group, and sets a due date for recommendations to the BTS Director of December 4, 2016.

Agenda: During the meeting, U.S. Department of Transportation (hereafter, “Department”) staff will provide updates of the Department's progress in implementing its Port Performance Freight Statistics Program and related provisions. The Working Group will discuss its draft recommendations on the following topics:

(a) Generally accepted industry standard for port data collection and reporting.

(b) Standards for collecting data and reporting nationally consistent port performance measures.

(c) Statistics measuring U.S. port capacity and throughput.

(d) Process for the Department to collect timely and consistent data, including identifying safeguards to protect proprietary information.

The final meeting agenda will be posted on the BTS Web site at www.bts.gov/port_performance in advance of the meeting.

Public Participation: The meeting will be open to the public on a first-come, first served basis, especially because space is limited. Members of the public who wish to attend the meetings in-person are asked to send RSVPs, including name and affiliation to portstatistics@dot.gov, in order to request a seat and to facilitate entry. RSVPs are requested by November 14, 2016. Any person requiring accessibility accommodation, such as sign language interpretation, should contact the Matthew Chambers at (202) 366-1270 or via email at: portstatistics@dot.gov five (5) business days before the meeting.

Written Comments: Persons who wish to submit written comments on the draft Work Plan or for consideration by the Working Group at its November meeting must send them via email to portstatistics@dot.gov or mail to Matthew Chambers, Designated Federal Officer, Port Performance Freight Statistics Working Group, 1200 New Jersey Avenue SE., Room # E32-342, Washington, DC 20590. Written comments for the Working Group's November meeting must be received on or before November 14, 2016. Written comments on the draft Work Plan must be received on or before October 20, 2016. Comments on the Working Group's activities can be provided at any time to PortStatistics@dot.gov.

Dated: October 3, 2016.
Michael Sprung,
Assistant Director, Bureau of Transportation Statistics.

[FR Doc. 2016-24446 Filed 10-7-16; 8:45 am]

BILLING CODE 4910-9X-P